DEPARTMENT OF LABOR

Employment and Training Administration

[TA-W-62,276]

F.L. Smithe Machine Company, Duncansville, PA; Notice of Negative Determination on Reconsideration

On February 21, 2008, the Department issued an Affirmative Determination Regarding Application for Reconsideration for the workers and former workers of the subject firm. The notice was published in the Federal Register on February 29, 2008 (73 FR 11150-11151).

The initial investigation resulted in a negative determination based on the finding that imports of envelope making machines, printing presses and related parts did not contribute importantly to worker separations at the subject firm and no shift of production to a foreign source occurred.

The company official of the subject firm and the International Association of Machinists and Aerospace Workers filed a request for reconsideration and indicated that not enough information was supplied pertaining to printing press machines manufactured at the subject firm. The company official provided an additional list of customers and requested that the Department of Labor survey these customers regarding their purchases of printing press machines.

On reconsideration the Department of Labor surveyed these declining customers regarding purchases of like or directly competitive products with printing press machines purchased from the subject firm in 2005, 2006, and during January through September 2007 over the corresponding 2006 period. The survey revealed that the customers did not import printing press machines during the relevant period.

The petitioner also provided a list of foreign competitors who allegedly are selling products at lower prices and thus negatively impacting production at the subject firm.

The impact of foreign competitors on the domestic firms is revealed in an investigation through customer surveys. In the case at hand, a survey of declining customers was conducted to determine if customers purchased imported printing press machines. The survey is intended to determine if competitor imports contributed importantly to layoffs at the subject firm. The survey revealed no imports of printing press machines during the relevant period.

The subject firm did not import printing press machines nor was there a shift in production from subject firm abroad during the relevant period.

Conclusion

After reconsideration, I affirm the original notice of negative determination of eligibility to apply for worker adjustment assistance for workers and former workers of F.L. Smithe Machine Company, Duncansville, Pennsylvania.

Signed at Washington, DC, this 17th day of March, 2008.
Elliott S. Kushner,
Certifying Officer, Division of Trade Adjustment Assistance.

[FR Doc. E8-6369 Filed 3-27-08; 8:45 am]

BILLING CODE 4510-FN-P